Proclamation 8989 of May 31, 2013

Lesbian, Gay, Bisexual, and Transgender Pride Month, 2013

By the President of the United States of America

A Proclamation

For more than two centuries, our Nation has struggled to transform the ideals of liberty and equality from founding promise into lasting reality. Lesbian, gay, bisexual, and transgender (LGBT) Americans and their allies have been hard at work on the next great chapter of that history—from the patrons of The Stonewall Inn who sparked a movement to service members who can finally be honest about who they love to brave young people who come out and speak out every day.

This year, we celebrate LGBT Pride Month at a moment of great hope and progress, recognizing that more needs to be done. Support for LGBT equality is growing, led by a generation which understands that, in the words of Dr. Martin Luther King, Jr., “injustice anywhere is a threat to justice everywhere.” In the past year, for the first time, voters in multiple States affirmed marriage equality for same-sex couples. State and local governments have taken important steps to provide much-needed protections for transgender Americans.

My Administration is a proud partner in the journey toward LGBT equality. We extended hate crimes protections to include attacks based on sexual orientation or gender identity and repealed “Don't Ask, Don't Tell.” We lifted the HIV entry ban and ensured hospital visitation rights for LGBT patients. Together, we have investigated and addressed pervasive bullying faced by LGBT students, prohibited discrimination based on sexual orientation and gender identity in Federal housing, and extended benefits for same-sex domestic partners. Earlier this year, I signed a reauthorization of the Violence Against Women Act (VAWA) that prohibits discrimination on the basis of sexual orientation or gender identity in the implementation of any VAWA-funded program. And because LGBT rights are human rights, my Administration is implementing the first-ever Federal strategy to advance equality for LGBT people around the world.

We have witnessed real and lasting change, but our work is not complete. I continue to support a fully inclusive Employment Non-Discrimination Act, as well as the Respect for Marriage Act. My Administration continues to implement the Affordable Care Act, which beginning in 2014, prohibits insurers from denying coverage to consumers based on their sexual orientation or gender identity, as well as the National HIV/AIDS Strategy, which addresses the disparate impact of the HIV epidemic among certain LGBT sub-communities. We have a long way to go, but if we continue on this path together, I am confident that one day soon, from coast to coast, all of our young people will look to the future with the same sense of promise and possibility. I am confident because I have seen the talent, passion, and commitment of LGBT advocates and their allies, and I know that when voices are joined in common purpose, they cannot be stopped.

NOW, THEREFORE, I, BARACK OBAMA, President of the United States of America, by virtue of the authority vested in me by the Constitution and the laws of the United States, do hereby proclaim June 2013 as Lesbian, Gay, Bisexual, and Transgender Pride Month. I call upon the people of the United States to eliminate prejudice everywhere it exists, and to celebrate the great diversity of the American people.

IN WITNESS WHEREOF, I have hereunto set my hand this thirty-first day of May, in the year of our Lord two thousand thirteen, and of the Independence of the United States of America the two hundred and thirty-seventh.

[FR Doc. 2013-13542

Filed 6-5-13; 8:45 am]

Billing code 3295-F3